DEPARTMENT OF TRANSPORTATION

Federal Aviation Administration

14 CFR Part 39

[Docket No. FAA-2014-1047; Directorate Identifier 2014-NM-157-AD; Amendment 39-18449; AD 2016-07-04]

RIN 2120-AA64

Airworthiness Directives; Airbus Airplanes

AGENCY: Federal Aviation Administration (FAA), Department of Transportation (DOT).

ACTION: Final rule.

SUMMARY: We are adopting a new airworthiness directive (AD) for certain Airbus Model A318, A319, A320, and A321 series airplanes. This AD was prompted by a report that, during the assembly process, several gaps between the two parts of the girt bar fittings for the aft passenger doors were found to exceed tolerances. This AD requires an inspection of the gap between the two parts of the girt bar fittings on left-hand (LH) and right-hand (RH) aft passenger doors, and corrective actions if necessary. We are issuing this AD to detect and correct incorrect gaps between the girt bar fittings. Detachment of a girt bar could lead to the separation of the slide or slide-raft from the fuselage, making the emergency exit inoperative, which could impede an emergency evacuation.

DATES: This AD becomes effective May 10, 2016.

The Director of the Federal Register approved the incorporation by reference of a certain publication listed in this AD as of May 10, 2016.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-1047.

Examining the AD Docket

You may examine the AD docket on the Internet at http://www.regulations.gov by searching for and locating Docket No. FAA-2014-1047; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to certain Airbus Model A318, A319, A320, and A321 series airplanes. The NPRM published in the Federal Register on January 23, 2015 (80 FR 3533) (“the NPRM”). The NPRM was prompted by a report that, during the assembly process, several gaps between the two parts of the girt bar fittings for the aft passenger doors were found to exceed tolerances. The NPRM proposed to require an inspection of the gap between the two parts of the girt bar fittings on LH and RH aft passenger doors, and corrective actions if necessary. We are issuing this AD to detect and correct incorrect gaps between the girt bar fittings. Detachment of a girt bar could lead to the separation of the slide or slide-raft from the fuselage, making the emergency exit inoperative, which could impede an emergency evacuation.

Comments

We gave the public the opportunity to participate in developing this AD. We have considered the comments received. The following presents the comments received on the NPRM and the FAA's response to each comment.

Request To Reference Later Revision of Service Information

United Airlines (UAL) proposed to update the reference to the service information to Airbus Service Bulletin A320-53-1289, Revision 01, dated August 29, 2014. UAL also suggested that the service information update would also update the effectivity for the applicable inspection.

We agree to reference the latest service information, Airbus Service Bulletin A320-53-1289, Revision 01, dated August 29, 2014, which updates the effectivity, and have revised paragraph (g) of this AD accordingly. We have also added a new paragraph (i) to this AD to provide credit for actions done using Airbus Service Bulletin A320-53-1289, dated May 28, 2014, and have redesignated subsequent paragraphs accordingly.

Request To Clarify the Tolerances for the Gap Size

UAL requested clarification on the inspection task's initial gap requirement tolerance and the required gap tolerance for trimmed latches. UAL stated that it seems the initial inspection in Task 531289-832-601/602-001 of Airbus Service Bulletin A320-53-1289, Revision 01, dated August 29, 2014, specifies that a gap equal to or less than 4 millimeters (mm) (0.158 inch) is acceptable without the need for further action, but other tasks for post-trimming and post-latch-replacement inspections specify replacement if the gap is less than 1 mm (0.0394 inch). UAL noted that those inspection tasks reference a figure in Airbus Service Bulletin A320-53-1289, Revision 01, dated August 29, 2014, which specifies the gap should be between 1 mm (0.0394 inch) and 4 mm (0.158 inch). UAL also stated that the trimming action in Task 531289-831-601-001 of Airbus Service Bulletin A320-53-1289, Revision 01, dated August 29, 2014, specifies trimming the latch again if the gap is still greater than 4 mm (0.158 inch), which seems to conflict with a figure that gives one trim dimension without any tolerance. UAL further stated that it should be clearer that the latch should be trimmed as many times as required with a maximum trim dimension of 0.5 mm (0.0197 inch) until the required gap tolerance is achieved.

We agree to provide clarification. Figure A-SBCAA of Airbus Service Bulletin A320-53-1289, Revision 01, dated August 29, 2014, specifies 0.5 mm (0.0197 inch) as the limit of the edge margin, which must not be exceeded while trimming the latch part during the gap adjustment. We find that Airbus Service Bulletin A320-53-1289, Revision 01, dated August 29, 2014, is clear on the initial gap tolerance, which specifies corrective actions if the gap is initially greater than 4 mm (0.158 inch). The corrective actions include trimming and determining the gap after trimming. If the gap is less than 1 mm (0.0394 inch) or greater than 4 mm (0.158 inch) after trimming, Airbus Service Bulletin A320-53-1289, Revision 01, dated August 29, 2014, specifies additional corrective actions. No change has been made to this final rule in this regard.

Request To Address Issue of Obsolete Part Numbers

UAL stated that the NPRM and the referenced service information (Airbus Service Bulletins A320-53-1289, dated May 28, 2014, and Revision 01, dated August 29, 2014) do not identify part number D531125020000 as obsolete, which is identified in the illustrated parts catalog (IPC) as an acceptable part. UAL pointed out that the referenced service information introduces new part numbers D5348027920-200/400 as part of a corrective action, but does not specify the new part numbers as a part of an action to require new or revised latch or girt bar assembly parts. UAL asserts that, without a revised IPC or specific steps in the service information, there is a risk that the old part number could be used in the future, and lead to an incorrect gap after accomplishing the inspection required by this AD.

We agree to clarify the issue. This AD refers to Airbus Service Bulletin A320-53-1289, Revision 01, dated August 29, 2014, as the appropriate source of service information for accomplishing the actions required by this AD. We have determined the information specified in Airbus Service Bulletin A320-53-1289, Revision 01, dated August 29, 2014, is adequate. In addition, the requirements of an AD take precedence over any specifications in an IPC, which is not an FAA-approved document. We recommend that operators work with the manufacturer to ensure there are no discrepancies in the IPC. It is the responsibility of operators to apply necessary controls to maintain the airplane in accordance with the required configuration of an AD. No change has been made to this final rule in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued Service Bulletin A320-53-1289, Revision 01, dated August 29, 2014. The service information describes procedures for a detailed inspection of the gap in the girt bar fittings of the aft passenger doors, LH and RH sides, and corrective actions. This service information is reasonably available because the interested parties have access to it through their normal course of business or by the means identified in the ADDRESSES section.

Costs of Compliance

We estimate that this AD affects 838 airplanes of U.S. registry.

We also estimate that it will take about 3 work-hours per product to comply with the basic requirements of this AD. The average labor rate is $85 per work-hour. Based on these figures, we estimate the cost of this AD on U.S. operators to be $213,690, or $255 per product.

In addition, we estimate that any necessary follow-on actions will take about 4 work-hours and require parts costing $435, for a cost of $775 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-07-04 Airbus: Amendment 39-18449. Docket No. FAA-2014-1047; Directorate Identifier 2014-NM-157-AD.

(a) Effective Date

This AD becomes effective May 10, 2016.

(b) Affected ADs

None.

(c) Applicability

This AD applies to Airbus airplanes, certificated in any category, identified in paragraphs (c)(1) through (c)(4) of this AD, except those on which Airbus Modification 154966 has been embodied during production.

(1) Model A318-111, -112, -121, and -122 airplanes.

(2) Model A319-111, -112, -113, -114, -115, -131, -132, and -133 airplanes.

(3) Model A320-211, -212, -214, -231, -232, and -233 airplanes.

(4) Model A321-111, -112, -131, -211, -212, -213, -231, and -232 airplanes.

(d) Subject

Air Transport Association (ATA) of America Code 53, Fuselage.

(e) Reason

This AD was prompted by a report that, during the assembly process, several gaps between the two parts of the girt bar fittings for the aft passenger doors were found to exceed tolerances. We are issuing this AD to detect and correct incorrect gaps between the girt bar fittings. Detachment of a girt bar could lead to the separation of the slide or slide-raft from the fuselage, making the emergency exit inoperative, which could impede an emergency evacuation.

(f) Compliance

Comply with this AD within the compliance times specified, unless already done.

(g) Inspection and Corrective Action

Except as provided by paragraph (h) of this AD, within 36 months after the effective date of this AD, do a detailed inspection of the gap in the girt bar fittings of the aft passenger doors, left-hand (LH) and right-hand (RH) sides, and do all applicable corrective actions, in accordance with the Accomplishment Instructions of Airbus Service Bulletin A320-53-1289, Revision 01, dated August 29, 2014. Do all applicable corrective actions before further flight.

(h) Exception

For any airplane that has been modified to a configuration where one or both LH and RH aft passenger doors are permanently inoperative or deactivated: If any aft passenger door is reactivated, after reactivation but before further flight, do the detailed inspection of the reactivated aft passenger door(s) and all applicable corrective actions, as required by paragraph (g) of this AD.

(i) Credit for Previous Actions

This paragraph provides credit for actions required by paragraphs (g) and (h) of this AD, if those actions were performed before the effective date of this AD using Airbus Service Bulletin A320-53-1289, dated May 28, 2014, which is not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(3) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) European Aviation Safety Agency Airworthiness Directive 2014-0178, dated July 25, 2014, for related information. This MCAI may be found in the AD docket on the Internet at http://www.regulations.gov by searching for and locating Docket No. FAA-2014-1047.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1289, Revision 01, dated August 29, 2014.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 20, 2016.
Michael Kaszycki,
Acting Manager, Transport Airplane Directorate, Aircraft Certification Service.

[FR Doc. 2016-07028 Filed 4-4-16; 8:45 am]

BILLING CODE 4910-13-P